DEPARTMENT OF JUSTICE

National Institute of Corrections

Advisory Board Meeting

Time and Date: 8:30 a.m. to 5 p.m. on Monday, March 12, 2001 & 8 a.m. to 12 noon on Tuesday, March 13, 2001.

Place: Wyndham City Center Hotel, 1143 New Hampshire Avenue NW., Washington, DC 20037.

Status: Open.

Matters to be Considered: Fiscal Year 2002 Service Plan Recommendations, Updates on Mental Health Program Options and Interstate Compact Activities; and Results of Advisory Board Hearings.

Contact Person for More Information: Larry Solomon, Deputy Director, 202-307-3106, ext. 155.

Larry Solomon,
Deputy Director.

[FR Doc. 01-2422 Filed 1-26-01; 8:45 am]

BILLING CODE 4410-36-M